DEPARTMENT OF THE INTERIOR

National Park Service

[NPS-WASO-NAGPRA-NPS0037010; PPWOCRADN0-PCU00RP14.R50000]

Notice of Inventory Completion: The University of Kansas, Lawrence, KS

AGENCY: National Park Service, Interior.

ACTION: Notice.

SUMMARY: In accordance with the Native American Graves Protection and Repatriation Act (NAGPRA), the University of Kansas has completed an inventory of human remains and has determined that there is a cultural affiliation between the human remains and Indian Tribes or Native Hawaiian organizations in this notice. The human remains were removed from Geary, Riley, Pottawatomie, Wabaunsee, Shawnee, Jefferson, Douglas, Leavenworth, Johnson, and Wyandotte Counties, KS.

DATES: Repatriation of the human remains in this notice may occur on or after January 4, 2024.

ADDRESSES: Dr. Thomas Torma, NAGPRA Program Manager, The University of Kansas, Office of Audit, Risk & Compliance, 1450 Jayhawk Boulevard, 351 Strong Hall, Lawrence, KS 66045, telephone (406) 850-2220, email t-torma@ku.edu.

SUPPLEMENTARY INFORMATION: This notice is published as part of the National Park Service's administrative responsibilities under NAGPRA. The determinations in this notice are the sole responsibility of the University of Kansas. The National Park Service is not responsible for the determinations in this notice. Additional information on the determinations in this notice, including the results of consultation, can be found in the inventory or related records held by the University of Kansas

Description

Human remains representing, at minimum, 103 individuals were removed from Geary, Riley, Pottawatomie, Wabaunsee, Shawnee, Jefferson, Douglas, Leavenworth, Johnson, and Wyandotte Counties, KS. These human remains were removed from the banks and gravel bars of the Kansas River by amateurs who collected paleontological resources and apparently did not recognize the remains as human. In 1991, in response to the passage of NAGPRA, the University conducted a review of this collection. During that review, one individual was identified and transferred to the campus's Museum of Anthropology. In 1996, the University of Kansas conducted a review of the Natural History collection, and human remains of the additional individuals were transferred to the University's Museum of Anthropology. In 2002, the Museum of Anthropology was closed, and, in 2006, the archaeology collection which included the human remains was transferred to the Biodiversity Institute. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological, geographical, and historical.

Determinations

Pursuant to NAGPRA and its implementing regulations, and after consultation with the appropriate Indian Tribes and Native Hawaiian organizations, the University of Kansas has determined that:

• The human remains described in this notice represent the physical remains of 103 individuals of Native American ancestry.

• There is a relationship of shared group identity that can be reasonably traced between the human remains described in this notice and the Cheyenne and Arapaho Tribes, Oklahoma; Citizen Potawatomi Nation, Oklahoma; Delaware Tribe of Indians; Kaw Nation, Oklahoma; Nez Perce Tribe; Oglala Sioux Tribe; Omaha Tribe of Nebraska; Otoe-Missouria Tribe of Indians, Oklahoma; Pawnee Nation of Oklahoma; Prairie Band Potawatomi Nation; Sac & Fox Nation of Missouri in Kansas and Nebraska; Sac & Fox Nation, Oklahoma; Sac & Fox Tribe of the Mississippi in Iowa; The Osage Nation; and the Wichita and Affiliated Tribes (Wichita, Keechi, Waco, & Tawakonie), Oklahoma.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after January 4, 2024. If competing requests for repatriation are received, the University of Kansas must determine the most appropriate requestor prior to repatriation. Requests for joint repatriation of the human remains are considered a single request and not competing requests. The University of Kansas is responsible for sending a copy of this notice to the Indian Tribes identified in this notice.

Authority: Native American Graves Protection and Repatriation Act, 25 U.S.C. 3003, and the implementing regulations, 43 CFR 10.9, 10.10, and 10.14.

Dated: November 28, 2023.
Melanie O'Brien,
Manager, National NAGPRA Program.

[FR Doc. 2023-26615 Filed 12-4-23; 8:45 am]

BILLING CODE 4312-52-P